DEPARTMENT OF ENERGY

Federal Energy Regulatory Commission

Privacy Act of 1974; System of Records

AGENCY: Federal Energy Regulatory Commission (FERC), DOE.

ACTION: Rescindment of a system of records notice.

SUMMARY: Pursuant to the Privacy Act of 1974 and Office of Management and Budget (OMB) Circular No. A-108, the Federal Energy Regulatory Commission (FERC) proposes to rescind an existing system of records notice. The following SORN is being proposed for rescindment: “FERC-61: Request for Commission Publications and Information.” The basis for rescindment is explained below.

DATES: Please submit comments on this rescindment notice on or before December 14, 2023. If no public comment is received during the period allowed for comment or unless otherwise published in the Federal Register by FERC, the rescindment will become effective a minimum of 30 days after the date of publication in the Federal Register. If FERC receives public comments, FERC shall review the comments to determine whether any changes to the notice are necessary.

ADDRESSES: Comments may be submitted in writing to Federal Energy Regulatory Commission, 888 First Street NE, Washington, DC 20426, or electronically to privacy@ferc.gov. Comments should indicate that they are submitted in response to “Request for Commission Publications and Information (FERC-61).”

FOR FURTHER INFORMATION CONTACT: Lakesha Abney, Supervisory Records and Information Management Specialist, Office of the Secretary, Records Management Team, Federal Energy Regulatory Commission, 888 First Street NE, Washington, DC 20426, (202) 502-8400.

SUPPLEMENTARY INFORMATION: OMB requires that each agency provide assurance that systems of records do not duplicate any existing agency or government-wide systems of records. FERC-61: Requests for Commission Publications and Information) was identified for rescindment because the SORN is duplicative and covered by another FERC system of records. Specifically, FERC-61: Requests for Commission Publications and Information is duplicative of and shares the same purpose as the records covered by FERC-62: Public Information Requests, Federal Register Citation: 88 FR 36308.

SYSTEM NAME AND NUMBER:

Request for Commission Publications and Information—FERC-61.

HISTORY:

79 FR 17532 (March 28, 2014).

Issued: November 7, 2023.
Kimberly D. Bose,
Secretary.

[FR Doc. 2023-25040 Filed 11-13-23; 8:45 am]

BILLING CODE 6717-01-P